DEPARTMENT OF TRANSPORTATION

Pipeline and Hazardous Materials Safety Administration

[Docket No. PHMSA-2011-0342]

Pipeline Safety: Information Collection Activities

AGENCY: Pipeline and Hazardous Materials Safety Administration (PHMSA), DOT.

ACTION: Notice and request for comments.

SUMMARY: On December 27, 2011, in accordance with the Paperwork Reduction Act of 1995, PHMSA published a notice with request for comments in the Federal Register (76 FR 81013). The notice regards the renewal of an information collection titled, “Gas Pipeline Safety Program Certification and Hazardous Liquid Pipeline Safety Program Certification,” and identified under Office of Management and Budget (OMB) control number 2137-0584. PHMSA received no comments on the notice and is now forwarding the information collection request to OMB for approval and providing an additional 30 days for comments.

DATES: Interested persons are invited to submit comments on or before April 16, 2012.

ADDRESSES: Send comments regarding the burden estimate, including suggestions for reducing the burden, directly to OMB, Office of Information and Regulatory Affairs, Attn: Desk Officer for the U.S. Department of Transportation (PHMSA), 725 17th Street NW., Washington, DC 20503.

FOR FURTHER INFORMATION CONTACT: Angela Dow by telephone at 202-366-1246, by fax at 202-366-4566, or by mail at DOT, PHMSA, 1200 New Jersey Avenue SE., PHP-30, Washington, DC 20590-0001.

SUPPLEMENTARY INFORMATION: Section 1320.8(d), Title 5, Code of Federal Regulations, requires PHMSA to provide interested members of the public and affected agencies an opportunity to comment on information collection and recordkeeping requests. This notice identifies an information collection request that PHMSA will be submitting to OMB for renewal titled, “Gas Pipeline Safety Program Certification and Hazardous Liquid Pipeline Safety Program Certification” (OMB control number 2137-0584).

PHMSA notes that the Federal Register notice published on December 27, 2011, contained a clerical error. Specifically, the notice inadvertently identified the burden hour estimated for the information collection at “3,820”. As reflected in this notice, the correct burden hour estimate for the information collection is “3,920”.

The following information is provided for the information collection: (1) Title of the information collection; (2) OMB control number; (3) Current expiration date; (4) Type of request; (5) Abstract of the information collection activity; (6) Description of affected public; (7) Estimate of total annual reporting and recordkeeping burden; and (8) Frequency of collection. PHMSA will request a three-year term of approval for the information collection activity. PHMSA requests comments on the following information collection:

Title: Gas Pipeline Safety Program Certification and Hazardous Liquid Pipeline Safety Program Certification.

OMB control number: 2137-0584.

Current Expiration Date: 6/30/2012.

Abstract: A state must submit an annual certification to assume responsibility for regulating intrastate pipelines, and certain records must be maintained to demonstrate that the state is ensuring satisfactory compliance with the pipeline safety regulations. PHMSA uses this information to evaluate a state's eligibility for Federal grants.

Affected Public: State and local governments.

Annual Reporting and Recordkeeping Burden:

Total Annual Responses: 67.

Total Annual Burden Hours: 3,920.

Frequency of Collection: Annual.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on March 8, 2012.
John A. Gale,
Director, Office of Standards and Rulemaking.

[FR Doc. 2012-6206 Filed 3-14-12; 8:45 am]

BILLING CODE 4910-60-P